ENVIRONMENTAL PROTECTION AGENCY

[ER-FRL-6626-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of FEDERAL ACTIVITIES AT (202) 564-7167.

An explanation of the ratings assigned to draft environmental impact statements (EISs) was published in Federal Register dated May 18, 2001 (66 FR 27647).

Draft EISs

ERP No. D-AFS-C65003-PR Rating EC2, Caribbean National Forest, Constructing the Rio Sabana Picnic Area Construction, Rio Sabana Trail Reconstruction and Highway PR 191 Reconstruction from Km. 21.3 to Km 20.0, Special-Use-Permit, PR.

Summary: EPA expressed environmental concerns with the proposed reopening of PR-Highway 191 in the Carribean National Forest and requested that additional information be provided in the final EIS to address EPA concerns. ERP No. D-FHW-L40215-OR Rating EC2, South Medford Interchange Project, Interchange Project, Relocation on I-5 south of its current location at Barnett Road, Funding, Jackson County, OR.

Summary: EPA expressed environmental concerns relating to impacts from secondary development/induced travel, as well as the cumulative effects on water quality and fish species listed as threatened under the Endangered Species Act. EPA requested that additional information and analysis be included in the final EIS to adequately disclose the potential project impacts and to mitigate those impact where appropriate.

ERP No. D-FTA-K59002-AZ Rating LO, Central Phoenix/East Valley Light Rail Transit Corridor, Construction, Operation and Maintenance, Funding, Cities of Phoenix, Cities of Tempe and Mesa, Maricopa County, AZ.

Summary: EPA found that the document adequately discussed the environmental impacts of the proposed project, therefore EPA has no objections to the proposed action.

ERP No. D-NAS-K12008-CA Rating EC2, Programmatic EIS—NASA Ames Development Plan (NADP) for Ames Research Center, New Research and Development Uses, Implementation, San Francisco Bay, Santa Clara County, CA.

Summary: EPA expressed environmental concerns associated with the project's impact to air quality and health, and recommended additional air quality mitigation measures to potentially reduce impacts from construction activities.

ERP No. DS-NOA-K39068-CA Rating LO, San Francisco Bay National Estuarine Research Reserve, Proposed Designation of Three Sites: China, Camp State Park, Brown's Island Regional Parks District and Rush Ranch Open Space Preserve, Additional Information regarding Commercial Navigation and Socioeconomic Issues, Contra Costa, Marin, and Solano Counties, CA.

Summary: EPA had no additional comments on this supplemental document.

ERP No. DS-TVA-A06018-AL Rating EC2, Browns Ferry Nuclear Plant, Operating License Renewal, Units 2 and 3 and Potentially Unit 1 Operations Extension, Athens, Limestone County, AL.

Summary: EPA expressed environmental concerns regarding the potential fish impingement and entrainment effects and the probable discharge of thermal effluent at higher (although still NPDES-compliant) temperature.

Final EISs

ERP No. F-AFS-J65300-MT Tobacco Root Vegetation Management Plan, Restoration and Maintenance of a Mix of Vegetation, Beaverhead-Deer Lodge National Forest, Madison Ranger District, Madison County, MT.

Summary: EPA's concerns with this project were satisfactorily addressed.

ERP No. F-AFS-L61224-00

Lemhi Pass National Historic Landmark Management Plan, Implementation, Beaverhead-Deerlodge National Forest, Beaverhead County, MT and Salmon-Challis National Forest, Lemhi County, ID.

Summary: EPA's review did not identify any potential environmental impacts requiring substantive changes to the proposal, therefore EPA has no objection to the action as proposed.

ERP No. F-AFS-L65309-ID

Spruce Moose and Moose Lake Right-of-Way Analysis Area, Implementation, Timber Harvesting, Road Construction, Reforestation and Watershed Restoration, Clearwater National Forest, Lochsa Ranger District, Idaho County, ID.

Summary: No formal comment letter was sent to the preparing agency.

ERP No. F-AFS-L65354-ID

Iron Honey Resource Area Project, Aquatic, Vegetative and Wildlife Habitat Improvement Activities, Implementation, Coeur d'Alene River Ranger District, Idaho Panhandle National Forests, Kootenai and Shoshone Counties, ID.

Summary: EPA has no objection to the action as proposed. The final EIS adequately discloses the impacts and satisfactorily responded to most of EPA's previous comments on the draft EIS. In addition, the project overall should benefit the landscape.

ERP No. F-BLM-K65233-NV

Falcon to Gonder 345kV Transmission Project, Construction, Resource Management Plan Amendments, Right-of-Way Grant, Lander, Elko, Eureka and White Pine Counties, NV.

Summary: No formal comment letter was sent to the preparing agency.

ERP No. F-FHW-F40395-WI

County Highway J/WIS 164 (I-94 to County E) Corridor Improvements Project, Funding, Pewaukee, Villages of Pewaukee and Sussex, Towns of Lisbon, Richfield and Polk, Waukesha and Washington Counties, WI.

Summary: EPA continues to express environmental concerns regarding wetland impact mitigation and water quality impacts.

ERP No. F-GSA-C81032-NY

U.S. Mission to the United Nations (USUN), Demolition of Current USUN and the Construction of a New Facility on the Same Site, Located at 799 United Nations Plaza, New York, NY.

Summary: EPA's previous concerns regarding the draft EIS have been resolved, therefore EPA has no objection to the proposed action.

ERP No. F-NOA-K36136-CA

Goat Canyon Enhancement Project, Sediment Basins, Staging Area and Visual Screening Berm Establishment, Tijuana River National Estuarine Research Reserve (TRNERR), Imperial Beach, City and County of San Diego, CA.

Summary: EPA reviewed the FEIS and found that the document adequately addresses the issues raised in our comment letter on the DEIS, therefore EPA has no objections to the proposed action.

ERP No. FS-FTA-K40130-CA

Los Angeles Eastside Corridor Transit Improvements, Light Rail Transit (LRT) Selected Build Alternative Options A and B, Los Angeles Central Business District to just east of Atlantic Boulevard, Funding, NPDES and US Army COE Section 404 Permits, Los Angeles County, CA.

Summary: EPA found that the document adequately discussed the environmental impacts of the proposed project and incorporated all of EPA's previous recommendations, therefore EPA has no objection to the proposed action.

ERP No. F1-FHW-H40163-MO

MO-60 Transportation Improvements, East of Willow Springs to West of Van Buren, Funding, Forest Land Acquisition and US Army COE 404 Permit Issuance, (Job No. J9P0455) Howell, Shannon and Carter Counties, MO.

Summary: EPA has no objection to the proposed actions.

Dated: February 5, 2002.
Joseph C. Montgomery,
Director, NEPA Compliance Division, Office of Federal Activities.

[FR Doc. 02-3126 Filed 2-7-02; 8:45 am]

BILLING CODE 6560-50-P